DEPARTMENT OF ENERGY

Proposed Subsequent Arrangement

AGENCY: Office of Nonproliferation and Arms Control, Department of Energy.

ACTION: Proposed subsequent arrangement.

SUMMARY: This document is being issued under the authority of the Atomic Energy Act of 1954, as amended. The Department is providing notice of a subsequent arrangement under the Agreement for Cooperation Between the Government of the United States of America and the Government of the Republic of Korea Concerning Peaceful Uses of Nuclear Energy and the Agreement for Cooperation Between the Government of the United States of America and the Government of the United Arab Emirates Concerning Peaceful Uses of Nuclear Energy.

DATES: This subsequent arrangement will take effect no sooner than January 9, 2017.

FOR FURTHER INFORMATION CONTACT: Mr. Richard Goorevich, Office of Nonproliferation and Arms Control, National Nuclear Security Administration, Department of Energy. Telephone: 202-586-0589 or email: Richard.Goorevich@nnsa.doe.gov.

SUPPLEMENTARY INFORMATION: This subsequent arrangement concerns the retransfer of 9,003,960g of U.S.-origin enriched uranium oxide (UO2), containing 158,122g of the isotope U-235 (less than five percent enrichment) in the form of 302 low-enriched fuel assemblies, from the Korea Electric Power Corporation Nuclear Fuel Co., Ltd. in Daejeon, Republic of Korea, to the Emirates Nuclear Energy Corporation in Abu Dhabi, United Arab Emirates. The fuel assemblies will be used for nuclear power generation at the Barakah Nuclear Power Plant. In accordance with section 131a. of the Atomic Energy Act of 1954, as amended, it has been determined that this subsequent arrangement concerning the retransfer of nuclear material of United States origin will not be inimical to the common defense and security of the United States of America.

Dated: December 13, 2016.
For the Department of Energy.
Anne M. Harrington,
Deputy Administrator, Defense Nuclear Nonproliferation.

[FR Doc. 2016-31002 Filed 12-22-16; 8:45 am]

BILLING CODE 6450-01-P